DEPARTMENT OF THE INTERIOR

Bureau of Ocean Energy Management

[MMAA104000]

Use of Outer Continental Shelf (OCS) Sand Resources for the Mississippi Coastal Improvements Program (MsCIP) Comprehensive Barrier Island Restoration in Hancock, Harrison, and Jackson Counties, Mississippi

AGENCY: Bureau of Ocean Energy Management (BOEM), Interior.

ACTION: Notice of availability of the Record of Decision (ROD).

SUMMARY: BOEM is announcing the availability of the ROD that documents BOEM's decision to authorize the use of OCS sand resources by the U.S. Army Corps of Engineers (USACE) Mobile District in the MsCIP Comprehensive Barrier Island Restoration Project (Project) in Hancock, Harrison, and Jackson Counties, Mississippi. The ROD is available at BOEM's Web site at http://www.boem.gov/Non-Energy-Minerals/Marine-Minerals-Program.aspx. BOEM will enter into a Memorandum of Agreement (MOA) with the USACE and make available OCS sand for use in the MsCIP Comprehensive Barrier Island Restoration Project.

FOR FURTHER INFORMATION CONTACT: Terri L. Thomas, Bureau of Ocean Energy Management, Gulf of Mexico Region, Regional Supervisor, Office of Environment, 1201 Elmwood Park Blvd., New Orleans, LA 70123, (504) 736-2963, terri.thomas@boem.gov.

SUPPLEMENTARY INFORMATION: In 2009, the USACE Mobile District developed the MsCIP Comprehensive Plan (Plan) and Integrated Programmatic Environmental Impact Statement (2009 PEIS) to support the long-term recovery of Hancock, Harrison, and Jackson Counties, Mississippi from the severe erosion and storm damage caused by Hurricane Katrina and other storm events. The Plan includes a long-term strategy to make the Mississippi coast more resilient to damage from future storms and to compensate for historical navigational dredging and disposal activities that altered sediment availability and sediment transport along the barrier islands. The environmental impacts associated with the dredging of offshore sand resources and the placement of sand along East and West Ship Islands, and Cat Island located in Hancock, Harrison, and Jackson Counties, Mississippi, were evaluated in the MsCIP Comprehensive Barrier Island Restoration, Hancock, Harrison, and Jackson Counties, Mississippi, Final Supplemental Environmental Impact Statement (2016 SEIS), which tiers directly from the 2009 PEIS. The USACE's Mobile District served as the lead agency during the preparation of the 2009 PEIS and 2016 SEIS. BOEM served as a cooperating agency given its jurisdiction over OCS sand resources that were being considered for use in the Project. The borrow option selected by USACE and evaluated in the 2016 SEIS to implement the Plan includes 10 OCS locations with a total volume of 19.6 million cubic yards (MCY) of OCS sand. The USACE signed its own ROD in June 2016 and requested BOEM to authorize use of OCS sand.

BOEM and the USACE will enter into an MOA authorizing the use of up to 19.6 MCY of OCS sand from the identified OCS borrow areas. Under the OCS Lands Act (43 U.S.C. 1337(k)(2)), BOEM can convey, on a noncompetitive basis, the rights to use OCS sand, gravel, or shell resources for use in a program for shore protection, beach restoration, or coastal wetland restoration undertaken by a Federal, state, or local government agency (43 U.S.C. 1337(k)(2)).

As a cooperating agency, BOEM has independently reviewed and adopted the comprehensive analysis presented in the USACE's 2009 PEIS and 2016 SEIS (43 CFR 46.120). The 2009 PEIS and 2016 SEIS assessed the physical, biological, and social/human impacts of the proposed project and considered a range of alternatives, including a no-action alternative. The ROD discloses BOEM's decision, articulates the basis for the decision, summarizes the alternatives considered by BOEM, and identifies the environmentally preferable alternative and the mitigation measures BOEM is adopting. The USACE is committed to implementing the mitigation measures and monitoring requirements deemed practicable to avoid or minimize environmental harm. The mitigation measures and monitoring requirements are identified in BOEM's ROD and will be incorporated into the MOA between BOEM and the USACE. The Project will be constructed with the understanding that any proposed use of OCS sand in future coastal restoration activities will require an updated environmental analysis and new negotiated agreement.

Authority: This Notice of Availability is published pursuant to the regulations (40 CFR 1506.6) implementing the provisions of the NEPA of 1969 (42 U.S.C. 4321 et seq.).

Dated: September 12, 2015.
Abigail Ross Hopper,
Director, Bureau of Ocean Energy Management.

[FR Doc. 2016-22377 Filed 9-15-16; 8:45 am]

BILLING CODE 4310-MR-P